DEPARTMENT OF COMMERCE

International Trade Administration

[A-570-891]

Hand Trucks and Certain Parts Thereof from the People's Republic of China: Notice of Rescission of Antidumping Duty New Shipper Review

AGENCY: Import Administration, International Trade Administration, Department of Commerce.

SUMMARY: In response to a request from ABC Tools MFG. CORP (ABC Tools), the Department of Commerce (the Department) published a Federal Register notice announcing the initiation of a new shipper review of the antidumping duty order on hand trucks and certain parts thereof from the People's Republic of China (PRC) for the period December 1, 2007, through November 30, 2008. On June 3, 2009, ABC Tools withdrew its request for a new shipper review and therefore, we are rescinding this new shipper review with respect to ABC Tools.

EFFECTIVE DATE: July 6, 2009.

FOR FURTHER INFORMATION CONTACT: David Cordell or Robert James, AD/CVD Operations, Office 7, Import Administration, International Trade Administration, U.S. Department of Commerce, 14th Street and Constitution Avenue NW, Washington, DC 20230; telephone: (202) 482-0408 or (202) 482-0649 respectively.

SUPPLEMENTARY INFORMATION:

Background

On December 22, 2009, the Department received a timely request from ABC Tools in accordance with section 751(a)(2)(B)(i) of the Tariff Act of 1930, as amended (the Act), and 19 CFR 351.214(c), for a new shipper review of the antidumping duty order on hand trucks and certain parts thereof from the PRC. On January 22, 2009, the Department found that the request for review with respect to ABC Tools met all of the regulatory requirements set forth in 19 CFR 351.214(b) and initiated an antidumping duty new shipper review. See Hand Trucks and Certain Parts Thereof from the People's Republic of China: Initiation of New Shipper Review, 74 FR 5144 (January 29, 2009) (Initiation Notice). On June 3, 2009, ABC Tools withdrew its request for a new shipper review.

Rescission of New Shipper Review

Section 351.214(f)(1) of the Department's regulations provides that the Department may rescind a new shipper review if the party that requested the review withdraws its request for review within 60 days of the date of publication of the notice of initiation of the requested review. Although ABC Tools withdrew its request after the 60-day deadline, we find it reasonable to extend the deadline because we have not yet committed significant resources to the ABC Tools new shipper review (e.g., we have not issued our preliminary results). Further, in this instance, no other company would be affected by a rescission, and we have received no objections from any party to ABC Tools' withdrawal of its request for this new shipper review. Based upon the above, we are rescinding the new shipper review of the antidumping duty order on hand trucks and certain parts from PRC with respect to ABC Tools. As the Department is rescinding this new shipper review, we are not calculating a company-specific rate for ABC Tools, and ABC Tools will remain part of the PRC-wide entity.

Notifications

Because ABC Tools is still under review as part of the PRC-wide entity in the ongoing administrative review, the Department will not order liquidation of entries for ABC Tools. The Department intends to issue liquidation instructions for the PRC-wide entity which will cover any entries by ABC Tools, 15 days after publication of the final results of the ongoing administrative review.

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (APO) of their responsibility concerning the return or destructions of proprietary information disclosed under APO in accordance with 19 CFR 351.305(a). Timely written notification of the return/destruction of APO materials or conversion to judicial protective order is hereby requested. Failure to comply with the regulations and terms of an APO is a violation which is subject to sanction.

We are issuing and publishing this determination and notice in accordance with section 777(i) of the Act and 19 CFR 351.214(f)(3).

Dated: June 29, 2009.
John M. Andersen,
Acting Deputy Assistant Secretary for Antidumping and Countervailing Duty Operations.

[FR Doc. E9-15825 Filed 7-2-09; 8:45 am]

BILLING CODE 3510-DS-S